DEPARTMENT OF JUSTICE

Drug Enforcement Administration

[Docket No. DEA-709]

Bulk Manufacturer of Controlled Substances Application: Cambridge Isotype Lab

AGENCY: Drug Enforcement Administration, Justice.

ACTION: Notice of application.

SUMMARY: Cambridge Isotype Lab has applied to be registered as a bulk manufacturer of basic class(es) of controlled substance(s). Refer to Supplemental Information listed below for further drug(s) information.

DATES: Registered bulk manufacturers of the affected basic class(es), and applicants therefore, may file written comments on or objections to the issuance of the proposed registration on or before November 13, 2020. Such persons may also file a written request for a hearing on the application on or before November 13, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on July 23, 2020, Cambridge Isotype Lab 50 Frontage Road, Andover, Massachusetts 01810-5413, applied to be registered as an bulk manufacturer of the following basic class(es) of controlled substance(s):

Controlled substance | Drug code | Schedule
Tetrahydrocannabinols | 7370 | I

The company plans to synthetically bulk manufacture the controlled substance Tetrahydrocannabinols to produce analytical standards for distribution to its customers. No other activity for this drug code is authorized for this registration.

William T. McDermott,
Assistant Administrator.

[FR Doc. 2020-20160 Filed 9-11-20; 8:45 am]

BILLING CODE P